DEPARTMENT OF ENERGY

[FE Docket No. PP-229]

Notice Extending the Public Scoping Period; Tucson Electric Power Company

AGENCY: Department of Energy.

ACTION: Notice.

SUMMARY: The Department of Energy (DOE) announces the extension of the scoping period for the environmental impact statement (EIS) that DOE is preparing in connection with an application for a Presidential permit filed by the Tucson Electric Power Company.

DATES: The scoping period on the EIS is extended until August 31, 2001.

ADDRESSES: Written comments should be submitted to: Dr. Jerry Pell, NEPA Document Manager, Office of Fossil Energy (FE-27), U.S. Department of Energy, 1000 Independence Avenue, SW, Washington DC 20585-0350; telephone 301-903-2617; facsimile: 202-318-7761; or electronic mail at Jerry.Pell@hq.doe.gov.

For general information on the DOE's NEPA process, contact: Carol Borgstrom, Director, Office of NEPA Policy and Compliance (EH-42), U.S. Department of Energy, 1000 Independence Avenue, SW, Washington DC 20585; telephone: 202-586-4600; or leave a message at 800-472-2756.

SUPPLEMENTARY INFORMATION: On August 17, 2000, TEP filed an application with the Office of Fossil Energy (FE) of DOE for a Presidential permit to construct a double-circuit, 345,000-volt electric transmission line across the U.S.-Mexican border. Both circuits would be constructed on a single set of support structures. DOE has determined that the issuance of a Presidential permit for this project would constitute a major Federal action that may have a significant impact upon the environment within the meaning of the National Environmental Policy Act of 1969 (NEPA). For this reason, DOE will prepare an EIS to address reasonably foreseeable impacts from the proposed action and the range of reasonable alternatives.

On July 10, 2001, DOE published in the Federal Register (66 FR 35950) a Notice of Intent (NOI) to prepare an EIS and to conduct public scoping meetings in the vicinity of the proposed line. The public scoping period was to continue until August 9, 2001. However, to ensure that the public has ample opportunity to provide comments, DOE is extending until August 31, 2001, the period during which it will receive comments for consideration in establishing the scope and content of the EIS. Comments received after August 31, 2001, will be considered to the extent practicable. Further information on this proceeding is contained in the previously published NOI.

Issued in Washington, DC, on July 24, 2001.
Anthony J. Como,
Deputy Director, Electric Power Regulation, Office of Coal & Power Import/Export, Office of Coal & Power Systems, Office of Fossil Energy.

[FR Doc. 01-18810 Filed 7-26-01; 8:45 am]

BILLING CODE 6450-01-P